DEPARTMENT OF COMMERCE

International Trade Administration

North Carolina State University; Notice of Decision on Application for Duty-Free Entry of Scientific Instrument

This decision is pursuant to section 6(c) of the Educational, Scientific, and Cultural Materials Importation Act of 1966 (Pub. L. 89-651, as amended by Pub. L.106-36; 80 Stat. 897; 15 CFR part 301). Related records can be viewed between 8:30 a.m. and 5 p.m. in Room 2104, U.S. Department of Commerce, 14th and Constitution Ave, NW., Washington, DC.

Comments: None received. Decision: Approved. Potential domestic manufacturers declined to bid on producing the scientific instrument. No domestic instrument of equivalent scientific value to the foreign instruments described below, for such purposes as each is intended to be used, was being manufactured in the United States at the time of its order.

Docket Number: 07-001. Applicant: North Carolina State University. Instrument: Cryogen-Free Magnetic System. Manufacturer: Cryogenic Limited, UK. Intended Use: See notice at 71 FR 4895, January 30, 2006 (Comparable case). Reasons: The foreign instrument, the first of its kind, provides complete superconducting magnet operation in a cryogen-free mode using a dilution refrigerator and a persistent superconducting switch which provides long-term magnetic field stability of at least 1 ppm/hr and can maintain the sample in the millikelvin range. Domestic magnets operating in cryogen-free mode do not provide long term field stability better than 10ppm/hr, nor do they offer a devoted cryo-cooler and cryogen-free dewar, thus providing a room temperature bore. Three potential domestic manufacturers of similar equipment declined to bid.

Dated: August 20, 2007.
Faye Robinson,
Director, Statutory Import Programs Staff Import Administration.

[FR Doc. E7-16692 Filed 8-22-07; 8:45 am]

BILLING CODE 3510-DS-S